DEPARTMENT OF LABOR

Employment and Training Administration

[TA-W-59,368]

Formica Corporation; Wildon Industries, Inc.; Rocklin, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 17, 2006, applicable to workers of Formica Corporation, Rocklin, California. The notice was published in the Federal Register on June 9, 2006 (71 FR 33488).

At the request of the State agency, the Department reviewed the certification for workers of the subject firm. The workers were engaged in the production of high pressure laminates.

New information shows that during 2004, workers separated from employment at the subject firm had their wages reported under a separate unemployment insurance (UI) tax account for a subsidiary company, Wildon Industries, Inc.

Accordingly, the Department is amending the certification to properly reflect this matter.

The intent of the Department's certification is to include all workers of Formica Corporation who were adversely affected by increased company imports.

The amended notice applicable to TA-W-59,368 is hereby issued as follows:

“All workers of Formica Corporation, Wildon Industries, Inc., Rocklin, California, who became totally or partially separated from employment on or after May 9, 2005, through May 17, 2008, are eligible to apply for adjustment assistance under Section 223 of the Trade Act of 1974, and are also eligible to apply for alternative trade adjustment assistance under Section 246 of the Trade Act of 1974.”

Signed at Washington, DC, this 30th day of March 2007.
Richard Church,
Certifying Officer, Division of Trade Adjustment Assistance.

[FR Doc. E7-5844 Filed 3-29-07; 8:45 am]

BILLING CODE 4510-FN-P